DEPARTMENT OF DEFENSE

Office of the Secretary

[Docket ID: DoD-2021-OS-0097]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 15, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: National Language Service Corps (NSLC) Application and Assessment; DD Form 2932, DD Form 2933, DD Form 2934; OMB Control Number 0704-0449.

Needs and Uses: The NLSC recruits from the general public and enrolls individuals who would like to volunteer their language skills. The NLSC identifies U.S. citizens who can provide high levels of proficiency in foreign languages and cultural expertise critical to national security for short-term temporary assignments when other resources are not available. The NLSC will fill gaps between requirements of DoD or other departments or agencies of the United States and available language skills where government employees are required or desired. The NLSC will reach out to U.S. citizens (age 18 or over) who can read, listen, speak, and write in English and read, listen, write and speak at least one other specified language, generally at or above skill level 3 as described by the proficiency guidelines of the Federal Interagency Language Roundtable (ILR). The DoD and the Intelligence Community agencies use these guidelines as the basis for language skill requirements identification, position descriptions, readiness indices and language bonus pay systems. Therefore, the ILR proficiency guidelines represent a common metric used by USG agencies as a basis for policy, planning and human capital decisions in operational, mission critical areas where language is required.

Affected Public: Individuals or households.

Annual Burden Hours: 1,020 hours.

Number of Respondents: 1,700.

Responses per Respondent: 3.

Annual Responses: 5,100.

Average Burden per Response: 12 minutes.

Frequency: On occasion.

Dated: September 10, 2021.
Kayyonne T. Marston,
Alternate OSD Federal Register Liaison Officer, Department of Defense.

[FR Doc. 2021-19954 Filed 9-15-21; 8:45 am]

BILLING CODE 5001-06-P